DEPARTMENT OF HEALTH AND HUMAN SERVICES

National Institutes of Health

Center for Scientific Review; Amended Notice of Meeting

Notice is hereby given of a change in the meeting of the Center for Scientific Review Special Emphasis Panel, October 31, 2007, 8 a.m. to November 1, 2007, 5 p.m., Hotel Del Coronado, 1500 Orange Avenue, Coronado, CA, 92118 which was published in the Federal Register on October 4, 2007, 72 FR 56780-56782.

The meeting will be held one day only on October 31, 2007, 8 a.m. to 4 p.m. The meeting location remains the same. The meeting is closed to the public.

Dated: October 12, 2007.
Jennifer Spaeth,
Director, Office of Federal Advisory Committee Policy.

[FR Doc. 07-5202 Filed 10-19-07; 8:45 am]

BILLING CODE 4140-01-M